DEPARTMENT OF THE INTERIOR

National Park Service

National Register of Historic Places; Notification of Pending Nominations and Related Actions

Nominations for the following properties being considered for listing or related actions in the National Register were received by the National Park Service before March 7, 2008. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington DC 20005; or by fax, 202-371-6447. Written or faxed comments should be submitted by April 7, 2009.

J. Paul Loether,
Chief, National Register of Historic Places/National Historic Landmarks Program.

CALIFORNIA

Placer County

Carnegie Library, 557 Lincoln St., Roseville, 09000199

FLORIDA

Hillsborough County

St. Andrews Episcopal Church, 505 N. Marion St., Tampa, 09000200

MICHIGAN

Berrien County

Mary's City of David, 1158 E. Britain Ave., Benton Harbor, 09000201

Delta County

Richter Brewery, 1615 Ludington St., Escanaba, 09000202

Ottawa County

Robbins, Nathaniel and Esther (Savidge), House, 20 S. 5th Ave., Grand Haven, 09000203

Wayne County

River Terrace Apartments, 7700 E. Jefferson St., Detroit, 09000204

MISSOURI

Jackson County

Jones, R. Bryson, House, 1045 W. 56th St., Kansas City, 09000205

Pennbroke Apartments, (Working-Class and Middle-Income Apartment Buildings in Kansas City, Missouri MPS) 604 W. 10th St., Kansas City, 09000206

Villa Serena Apartment Hotel, 325 Ward Pkwy., Kansas City, 09000207

NEW YORK

Broome County

Rivercrest Historic District, 4601-4609 Vestal Rd. & 4613-4729 Vestal Pkwy. E., Vestal, 09000208

OHIO

Clark County

Old Enon Road Stone Arch Culvert, Rocky Pt. Rd. approx. 185 ft. W. of Old Mill Rd., Enon, 09000209

Cuyahoga County

Inglewood Historic District, Inglewood Dr., Oakridge Dr., Cleveland Heights Blvd., Yellowstone & Glenwood Rds., & Quilliams, Cleveland Heights, 09000210

Jackson County

Wells, Harvey, House, 403 E. A St., Wellston, 09000211

Tuscarawas County

Railway Chapel, The, 301 Grant St., Dennison, 09000212

OKLAHOMA

Blaine County

United States Post Office Watonga, (Oklahoma Post Offices with Section Art MPS) 121 N. Noble Ave., Watonga, 09000213

Coal County

United States Post Office Coalgate, (Oklahoma Post Offices with Section Art MPS) 38 N. Main St., Coalgate, 09000214

Harmon County

United States Post Office Hollis, (Oklahoma Post Offices with Section Art MPS) 120 N. 2nd St., Hollis, 09000215

Marshall County

United States Post Office Madill, (Oklahoma Post Offices with Section Art MPS) 223 W. Lille Blvd., Madill, 09000216

Nowata County

United States Post Office Nowata, (Oklahoma Post Offices with Section Art MPS) 109 N. Pine St., Nowata, 09000217

WASHINGTON

Pierce County

American Lake Veterans Hospital, 9600 Veterans Dr., SW., Tacoma, 09000218

WISCONSIN

Eau Claire County

Roosevelt Avenue Historic District, 415, 419, 429, 443, 449 & 455 Roosevelt Ave., Eau Claire, 09000219

Salsbury Row House, 302-310 W. Grand Ave., Eau Claire, 09000220

A request for removal has been made for the following resources:

LOUISIANA

Tangipahoa Parish

Dykes Log Cabin, 17250 State Line Rd., Kentwood, 02001036

OREGON

Jackson County

Colver, Samuel, House, 150 S. Main St. Phoenix, 90001596

[FR Doc. E9-6179 Filed 3-20-09; 8:45 am]

BILLING CODE